DEPARTMENT OF ENERGY

International Energy Agency Meetings

AGENCY: Department of Energy.

ACTION: Notice of meetings.

SUMMARY: The Industry Advisory Board (IAB) to the International Energy Agency (IEA) will meet on March 21, 22, 2024, as a hybrid meeting via webinar and in person, in connection with a joint meeting of the IEA's Standing Group on Emergency Questions (SEQ) and the IEA's Standing Group on the Oil Market (SOM) which is scheduled at the same time via webinar.

DATES: March 21-22, 2024.

ADDRESSES: The location details of the SEQ and SOM webinar meeting are under the control of the IEA Secretariat, located at 9 rue de la Fédération, 75015 Paris, France. The in person meeting will take place at IEA Headquarters, 9 rue de la Fédération, 75015 Paris, France.

FOR FURTHER INFORMATION CONTACT: Mr. Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held in person and via webinar at the IEA Headquarters, 9 rue de la Fédération, 75015 Paris, commencing at 9:30 a.m., Paris time, on March 21, 2024. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda:

Welcome by the Chair

1. Adoption of the Agenda

2. Approval of Summary Record of meeting of 16 November 2023

3. Update on the Current Oil Market Situation

Update on the Current Gas Market Situation

4. Reports on Recent Oil Market and Policy Developments in IEA member countries

5. Update on IEA-OPEC-IEF Joint Work Program

6. India Oil Market Report—Outlook to 2030

7. Update on Global Biofuel Developments

IEA Ministerial Outcomes

Roundtable: Upstream Investment Trends and Implications for Field Decline

8. IEA perspectives

9. Service company perspective

10. Oil company perspective

11. Moderated roundtable discussion

13. Any other business:

Date of next SOM/SEQ meetings: 19-20 June 2024

Close of meeting

A meeting of the Industry Advisory Board (IAB) to the International Energy Agency (IEA) will be held in person and via webinar at the IEA Headquarters, 9 rue de la Fédération, 75015 Paris, commencing at 9:30 a.m., Paris time, on March 22, 2024. The purpose of this notice is to permit attendance by representatives of U.S. company members of the IAB at a meeting of the IEA's Standing Group on Emergency Questions (SEQ), which is scheduled to be held at the same location in person and via webinar at the same time. The IAB will also hold a preparatory meeting among company representatives. The agenda for this preparatory meeting is to review the agenda for the SEQ meeting.

The agenda of the SEQ meeting is under the control of the SEQ. It is expected that the SEQ will adopt the following agenda:

Closed SEQ Session—IEA Member Countries Only

1. Adoption of the Agenda

2. Approval of the Summary Record of the 177th SEQ meeting

3. Stockholding Levels of IEA Member Countries

4. Review of the 2022 IEA Collective Action

Open SEQ Session—Open to Association Countries

5. Data Reporting for Dedicated Emergency Stocks

6. Emergency Response Review of Slovak Republic

7. Critical Minerals Security

8. Mid-term Review of France

9. Industry Advisory Board Update

10. Mid-term Review of Canada

11. Emergency Response Review of United States

12. Future of the ERRs

13. Any Other Business

Schedule of ERRs for 2024

Schedule of SEQ & SOM Meetings for 2024: 18-19 June 2024 (tentative); 19-21 November 2024 (tentative)

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on March 8, 2024, by Thomas Reilly, Assistant General Counsel for International and National Security Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, March 11, 2024.
Treena V. Garrett,
Federal Register Liaison Officer, U.S. Department of Energy.

[FR Doc. 2024-05412 Filed 3-13-24; 8:45 am]

BILLING CODE 6450-01-P